FEDERAL COMMUNICATIONS COMMISSION

47 CFR Part 1

[WC Docket No. 07-245, GN Docket No. 09-51; FCC 10-84]

Implementation of Section 224 of the Act; A National Broadband Plan for Our Future

AGENCY: Federal Communications Commission.

ACTION: Proposed rule; correction.

SUMMARY: This document corrects a proposed rule published in the Federal Register on July 15, 2010, with respect to attachments to poles by any telecommunications carrier or cable operator providing telecommunications services. Specifically, this corrects how the maximum just and reasonable rate would be calculated under proposed rule § 1.1409(e)(2).

FOR FURTHER INFORMATION CONTACT: Marvin Sacks, 202-418-2017.

Correction

In proposed rule FR Doc. 2010-17048, beginning on page 41338 in the issue of July 15, 2010, make the following corrections in the SUPPLEMENTARY INFORMATION section. On page 41361 in the third column, under the proposed formula in § 1.1409(e)(2)(ii), delete the word “Maximum” before the word “Rate” and add the words “Maintenance and Administrative” before the words “Carrying Charge Rate,” so the formula reads as follows:

Federal Communications Commission.
Bulah P. Wheeler,
Deputy Manager.

[FR Doc. 2010-18908 Filed 8-2-10; 8:45 am]

BILLING CODE 6712-01-P